DEPARTMENT OF VETERANS AFFAIRS

[OMB Control No. 2900-0660]

Agency Information Collection Activity Under OMB Review: Request for Contact Information

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0660.

FOR FURTHER INFORMATION CONTACT: Maribel Aponte, Office of Enterprise and Integration, Data Governance Analytics (008), 1717 H Street NW, Washington, DC 20006, (202) 266-4688 or email maribel.aponte@va.gov. Please refer to “OMB Control No. 2900-0660” in any correspondence.

SUPPLEMENTARY INFORMATION: Authority: 38 U.S.C. 5502 and 38 U.S.C. 5711.

Title: Request for Contact Information (Form Letter 21P-30).

OMB Control Number: 2900-0660.

Type of Review: Reinstatement of a previously approved collection.

Abstract: Form Letter 21P-30 is used to locate a fiduciary, beneficiary, claimant, or witness when a field examination is necessary in order to gather information that is needed to maintain program integrity. The form is used only when contact information cannot be obtained by other means, or when travel funds may be significantly impacted (e.g., when the individual resides in a remote location and has a history of not being home during the day or when visited). This is a reinstatement only with no changes. The respondent burden has not changed.

An agency may not conduct or sponsor, and a person is not required to respond to a collection of information unless it displays a currently valid OMB control number. The Federal Register Notice with a 60-day comment period soliciting comments on this collection of information was published at 86 FR 36 on February 25, 2021, pages 11592 and 11593.

Affected Public: Individuals and households.

Estimated Annual Burden: 1,250 hours.

Estimated Average Burden per Respondent: 15 minutes.

Frequency of Response: Once.

Estimated Number of Respondents: 5,000.

By direction of the Secretary.
Maribel Aponte,
VA PRA Clearance Officer, Office of Enterprise and Integration, Data Governance Analytics, Department of Veterans Affairs.

[FR Doc. 2021-07527 Filed 4-12-21; 8:45 am]

BILLING CODE 8320-01-P